COMMITTEE FOR PURCHASE FROM PEOPLE WHO ARE BLIND OR SEVERELY DISABLED

Procurement List; Proposed Additions and Deletion

AGENCY: Committee for Purchase From People Who Are Blind or Severely Disabled.

ACTION: Proposed additions to and deletion from the Procurement List.

SUMMARY: The Committee is proposing to add products and services to the Procurement List that will be furnished by nonprofit agencies employing persons who are blind or have other severe disabilities and to delete a service previously furnished by such agency.

DATES: Comments must be received on or before: 8/9/2010.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: 7910-00-NIB-0236—Surface Prep pad 13′.

NSN: 7910-00-NIB-0240—Surface Prep pad 17′.

NSN: 7910-00-NIB-0243—Surface Prep pad 20′.

NPA: Beacon Lighthouse, Inc., Wichita Falls, TX.

Contracting Activity: Dept of Veterans Affairs, National Acquisition Center, Hines, IL.

Coverage: C-List for 100% of the requirement for the Department of Veterans Affairs as aggregated by the Department of Veterans Affairs National Acquisition Center, Hines, IL.

NSN: 8415-00-NIB-0210—Pants, United States Coast Guard Running Suit, Size XS.

NSN: 8415-00-NIB-0778—Pants, United States Coast Guard Running Suit, Size SM.

NSN: 8415-00-NIB-0779—Pants, United States Coast Guard Running Suit, Size MD.

NSN: 8415-00-NIB-0780—Pants, United States Coast Guard Running Suit, Size LG.

NSN: 8415-00-NIB-0781—Pants, United States Coast Guard Running Suit, Size X-LG.

NSN: 8415-00-NIB-0782—Pants, United States Coast Guard Running Suit, Size XX-LG.

NPA: Association for the Blind & Visually Impaired & Goodwill Ind. of Greater Rochester, Rochester, NY.

Contracting Activity: Department of Homeland Security, U.S. Coast Guard, Washington, DC.

Coverage: C-List for 100% of the requirements for the U.S. Coast Guard as aggregated by the U.S. Coast Guard.

NSN: 8415-00-FAB-5722—Kit, Pre-Cut Fabric, ACU Coat, XS-XS.

NSN: 8415-00-FAB-5723—Kit, Pre-Cut Fabric, ACU Coat, XS-S.

NSN: 8415-00-FAB-5724—Kit, Pre-Cut Fabric, ACU Coat, XS-R.

NSN: 8415-00-FAB-5725—Kit, Pre-Cut Fabric, ACU Coat, S-XXS.

NSN: 8415-00-FAB-5726—Kit, Pre-Cut Fabric, ACU Coat, S-XS.

NSN: 8415-00-FAB-5727—Kit, Pre-Cut Fabric, ACU Coat, S-S.

NSN: 8415-00-FAB-5728—Kit, Pre-Cut Fabric, ACU Coat, S-R.

NSN: 8415-00-FAB-5729—Kit, Pre-Cut Fabric, ACU Coat, S-L.

NSN: 8415-00-FAB-5731—Kit, Pre-Cut Fabric, ACU Coat, M-XXS.

NSN: 8415-00-FAB-5730—Kit, Pre-Cut Fabric, ACU Coat, S-XL.

NSN: 8415-00-FAB-5732—Kit, Pre-Cut Fabric, ACU Coat, M-XS.

NSN: 8415-00-FAB-5733—Kit, Pre-Cut Fabric, ACU Coat, M-S.

NSN: 8415-00-FAB-5734—Kit, Pre-Cut Fabric, ACU Coat, M-R.

NSN: 8415-00-FAB-5735—Kit, Pre-Cut Fabric, ACU Coat, M-L.

NSN: 8415-00-FAB-5736—Kit, Pre-Cut Fabric, ACU Coat, M-XL.

NSN: 8415-00-FAB-5737—Kit, Pre-Cut Fabric, ACU Coat, L-XS.

NSN: 8415-00-FAB-5738—Kit, Pre-Cut Fabric, ACU Coat, L-S.

NSN: 8415-00-FAB-5739—Kit, Pre-Cut Fabric, ACU Coat, L-R.

NSN: 8415-00-FAB-5740—Kit, Pre-Cut Fabric, ACU Coat, L-L.

NSN: 8415-00-FAB-5741—Kit, Pre-Cut Fabric, ACU Coat, L-XL.

NSN: 8415-00-FAB-5745—Kit, Pre-Cut Fabric, ACU Coat, XL-XL.

NSN: 8415-00-FAB-5744—Kit, Pre-Cut Fabric, ACU Coat, XL-L.

NSN: 8415-00-FAB-5742—Kit, Pre-Cut Fabric, ACU Coat, L-XXL.

NSN: 8415-00-FAB-5746—Kit, Pre-Cut Fabric, ACU Coat, XXL-XL.

NSN: 8415-00-FAB-5743—Kit, Pre-Cut Fabric, ACU Coat, XL-R.

NSN: 8415-00-FAB-0521—Kit, Pre-Cut Fabric, ACU Coat, XS-L.

NSN: 8415-00-FAB-0523—Kit, Pre-Cut Fabric, ACU Coat, XS-XL.

NSN: 8415-00-FAB-1733—Kit, Pre-Cut Fabric, ACU Coat, XL-S.

NSN: 8415-00-FAB-0531—Kit, Pre-Cut Fabric, ACU Coat, XXL-R.

NSN: 8415-00-FAB-1734—Kit, Pre-Cut Fabric, ACU Coat, XXL-L.

NSN: 8415-00-FAB-1730—Kit, Pre-Cut Fabric, ACU Coat, XS-XXS.

NSN: 8415-00-FAB-1731—Kit, Pre-Cut Fabric, ACU Coat, M-XXL.

NSN: 8415-00-FAB-0525—Kit, Pre-Cut Fabric, ACU Coat, L-XXS.

NSN: 8415-00-FAB-0529—Kit, Pre-Cut Fabric, ACU Coat, XL-XXS.

NSN: 8415-00-FAB-1732—Kit, Pre-Cut Fabric, ACU Coat, XL-XS.

NSN: 8415-00-FAB-0542—Kit, Pre-Cut Fabric, ACU Coat, XL-XXL.

NSN: 8415-00-FAB-0541—Kit, Pre-Cut Fabric, ACU Coat, XXL-XXL.

NSN: 8415-00-FAB-5747—Kit, Pre-Cut Fabric, ACU Trouser, XS-XS.

NSN: 8415-00-FAB-6701—Kit, Pre-Cut Fabric, ACU Trouser, XS-XXL.

NSN: 8415-00-FAB-5748—Kit, Pre-Cut Fabric, ACU Trouser, XS-S.

NSN: 8415-00-FAB-6700—Kit, Pre-Cut Fabric, ACU Trouser, XS-XL.

NSN: 8415-00-FAB-5749—Kit, Pre-Cut Fabric, ACU Trouser, XS-R.

NSN: 8415-00-FAB-5752—Kit, Pre-Cut Fabric, ACU Trouser, S-S.

NSN: 8415-00-FAB-5751—Kit, Pre-Cut Fabric, ACU Trouser, S-XS.

NSN: 8415-00-FAB-5754—Kit, Pre-Cut Fabric, ACU Trouser, S-L.

NSN: 8415-00-FAB-5755—Kit, Pre-Cut Fabric, ACU Trouser, S-XL.

NSN: 8415-00-FAB-5756—Kit, Pre-Cut Fabric, ACU Trouser, M-XS.

NSN: 8415-00-FAB-5753—Kit, Pre-Cut Fabric, ACU Trouser, S-R.

NSN: 8415-00-FAB-5757—Kit, Pre-Cut Fabric, ACU Trouser, M-S.

NSN: 8415-00-FAB-5750—Kit, Pre-Cut Fabric, ACU Trouser, XS-L.

NSN: 8415-00-FAB-5758—Kit, Pre-Cut Fabric, ACU Trouser, M-R.

NSN: 8415-00-FAB-5759—Kit, Pre-Cut Fabric, ACU Trouser, M-L.

NSN: 8415-00-FAB-5760—Kit, Pre-Cut Fabric, ACU Trouser, M-XL.

NSN: 8415-00-FAB-5761—Kit, Pre-Cut Fabric, ACU Trouser, L-S.

NSN: 8415-00-FAB-5763—Kit, Pre-Cut Fabric, ACU Trouser, L-L.

NSN: 8415-00-FAB-5762—Kit, Pre-Cut Fabric, ACU Trouser, L-R.

NSN: 8415-00-FAB-5764—Kit, Pre-Cut Fabric, ACU Trouser, L-XL.

NSN: 8415-00-FAB-5765—Kit, Pre-Cut Fabric, ACU Trouser, XL-S.

NSN: 8415-00-FAB-5766—Kit, Pre-Cut Fabric, ACU Trouser, XL-R.

NSN: 8415-00-FAB-5767—Kit, Pre-Cut Fabric, ACU Trouser, XL-L.

NSN: 8415-00-FAB-5768—Kit, Pre-Cut Fabric, ACU Trouser, XXL-R.

NSN: 8415-00-FAB-4667—Kit, Pre-Cut Fabric, ACU Trouser, S-XXL.

NSN: 8415-00-FAB-4674—Kit, Pre-Cut Fabric, ACU Trouser, M-XXL.

NSN: 8415-00-FAB-8074—Kit, Pre-Cut Fabric, ACU Trouser, L-XS.

NSN: 8415-00-FAB-4673—Kit, Pre-Cut Fabric, ACU Trouser, L-XXL.

NSN: 8415-00-FAB-4672—Kit, Pre-Cut Fabric, ACU Trouser, XL-XS.

NSN: 8415-00-FAB-4671—Kit, Pre-Cut Fabric, ACU Trouser, XL-XL.

NSN: 8415-00-FAB-4669—Kit, Pre-Cut Fabric, ACU Trouser, XL-XXL.

NSN: 8415-00-FAB-4668—Kit, Pre-Cut Fabric, ACU Trouser, XXL-XS.

NSN: 8415-00-FAB-8075—Kit, Pre-Cut Fabric, ACU Trouser, XXL-S.

NSN: 8415-00-FAB-8080—Kit, Pre-Cut Fabric, ACU Trouser, XXL-L.

NSN: 8415-00-FAB-4650—Kit, Pre-Cut Fabric, ACU Trouser, XXL-XL.

NSN: 8415-00-FAB-4649—Kit, Pre-Cut Fabric, ACU Trouser, XXL-XXL.

NSN: 8405-00-FAB-4220—Kit, Pre-Cut Fabric, HDU Trouser, 28X32.

NSN: 8405-00-FAB-4221—Kit, Pre-Cut Fabric, HDU Trouser, 30X28.

NSN: 8405-00-FAB-4222—Kit, Pre-Cut Fabric, HDU Trouser, 30X30.

NSN: 8405-00-FAB-4223—Kit, Pre-Cut Fabric, HDU Trouser, 30X32.

NSN: 8405-00-FAB-4224—Kit, Pre-Cut Fabric, HDU Trouser, 30X34.

NSN: 8405-00-FAB-4225—Kit, Pre-Cut Fabric, HDU Trouser, 30X36.

NSN: 8405-00-FAB-4226—Kit, Pre-Cut Fabric, HDU Trouser, 32X28.

NSN: 8405-00-FAB-4227—Kit, Pre-Cut Fabric, HDU Trouser, 32X30.

NSN: 8405-00-FAB-4228—Kit, Pre-Cut Fabric, HDU Trouser, 32X32.

NSN: 8405-00-FAB-4229—Kit, Pre-Cut Fabric, HDU Trouser, 32X34.

NSN: 8405-00-FAB-4230—Kit, Pre-Cut Fabric, HDU Trouser, 32X36.

NSN: 8405-00-FAB-4231—Kit, Pre-Cut Fabric, HDU Trouser, 34X28.

NSN: 8405-00-FAB-4232—Kit, Pre-Cut Fabric, HDU Trouser, 34X30.

NSN: 8405-00-FAB-4233—Kit, Pre-Cut Fabric, HDU Trouser, 34X32.

NSN: 8405-00-FAB-4234—Kit, Pre-Cut Fabric, HDU Trouser, 34X34.

NSN: 8405-00-FAB-4235—Kit, Pre-Cut Fabric, HDU Trouser, 34X36.

NSN: 8405-00-FAB-4236—Kit, Pre-Cut Fabric, HDU Trouser, 36X28.

NSN: 8405-00-FAB-4237—Kit, Pre-Cut Fabric, HDU Trouser, 36X30.

NSN: 8405-00-FAB-4238—Kit, Pre-Cut Fabric, HDU Trouser, 36X32.

NSN: 8405-00-FAB-4239—Kit, Pre-Cut Fabric, HDU Trouser, 36X34.

NSN: 8405-00-FAB-4240—Kit, Pre-Cut Fabric, HDU Trouser, 36X36.

NSN: 8405-00-FAB-4241—Kit, Pre-Cut Fabric, HDU Trouser, 38X28.

NSN: 8405-00-FAB-4242—Kit, Pre-Cut Fabric, HDU Trouser, 38X30.

NSN: 8405-00-FAB-4243—Kit, Pre-Cut Fabric, HDU Trouser, 38X32.

NSN: 8405-00-FAB-4244—Kit, Pre-Cut Fabric, HDU Trouser, 38X34.

NSN: 8405-00-FAB-4245—Kit, Pre-Cut Fabric, HDU Trouser, 38X36.

NSN: 8405-00-FAB-4246—Kit, Pre-Cut Fabric, HDU Trouser, 40X28.

NSN: 8405-00-FAB-4247—Kit, Pre-Cut Fabric, HDU Trouser, 40X30.

NSN: 8405-00-FAB-4248—Kit, Pre-Cut Fabric, HDU Trouser, 40X32.

NSN: 8405-00-FAB-4249—Kit, Pre-Cut Fabric, HDU Trouser, 40X34.

NSN: 8405-00-FAB-4250—Kit, Pre-Cut Fabric, HDU Trouser, 40X36.

NSN: 8405-00-FAB-4251—Kit, Pre-Cut Fabric, HDU Trouser, 42X28.

NSN: 8405-00-FAB-4252—Kit, Pre-Cut Fabric, HDU Trouser, 42X30.

NSN: 8405-00-FAB-4253—Kit, Pre-Cut Fabric, HDU Trouser, 42X32.

NSN: 8405-00-FAB-4254—Kit, Pre-Cut Fabric, HDU Trouser, 42X34.

NSN: 8405-00-FAB-4255—Kit, Pre-Cut Fabric, HDU Trouser, 42X36.

NSN: 8405-00-FAB-4256—Kit, Pre-Cut Fabric, HDU Trouser, 44X28.

NSN: 8405-00-FAB-4257—Kit, Pre-Cut Fabric, HDU Trouser, 44X30.

NSN: 8405-00-FAB-4258—Kit, Pre-Cut Fabric, HDU Trouser, 44X32.

NSN: 8405-00-FAB-4259—Kit, Pre-Cut Fabric, HDU Trouser, 44X34.

NSN: 8405-00-FAB-4260—Kit, Pre-Cut Fabric, HDU Trouser, 44X36.

NSN: 8405-00-FAB-4261—Kit, Pre-Cut Fabric, HDU Trouser, 46X28.

NSN: 8405-00-FAB-4262—Kit, Pre-Cut Fabric, HDU Trouser, 46X30.

NSN: 8405-00-FAB-4263—Kit, Pre-Cut Fabric, HDU Trouser, 46X32.

NSN: 8405-00-FAB-4264—Kit, Pre-Cut Fabric, HDU Trouser, 46X34.

NSN: 8405-00-FAB-4265—Kit, Pre-Cut Fabric, HDU Trouser, 46X36.

NPA: Blind Industries & Services of Maryland, Baltimore, MD.

Contracting Activity: Dept of Justice, Federal Prison System, UNICOR, Washington, DC.

Coverage: C-List for 100% of the requirements of UNICOR as aggregated by Federal Prison Industries.

Services

Service Type/Locations: Janitorial & Grounds. Alan Bible Federal Building, 600 Las Vegas Blvd. South, Las Vegas, NV.

Lloyd George U.S. Courthouse, 333 Las Vegas Blvd. South, Las Vegas, NV.

NPA: Opportunity Village Association for Retarded Citizens, Las Vegas, NV. Contracting Activity: General Services Administration, Public Buildings Service, Acquisition, San Francisco, CA.

Service Type/Locations: Hospital Housekeeping. Martin Army Community Hospital, 9200 Martin Loop, Fort Benning, GA.

NPA: Job Options, Inc., San Diego, CA. Contracting Activity: Dept of the Army, XU W40M Southeast Regional Contracting Office, Fort Gordon, GA.

Service Type/Location: Operations and Maintenance. Federal Aviation Administration, William J. Hughes Technical Center (Center-wide), Atlantic City International Airport, NJ.

NPA: FEDCAP Rehabilitation Services, Inc., New York, NY. Contracting Activity: FAA William J. Hughes Technical Center, Atlantic City, NJ.

Deletion

Regulatory Flexibility Act Certification

I certify that the following action will not have a significant impact on a substantial number of small entities. The major factors considered for this certification were:

1. If approved, the action will not result in additional reporting, recordkeeping or other compliance requirements for small entities.

2. If approved, the action may result in authorizing small entities to provide a service to the Government.

3. There are no known regulatory alternatives which would accomplish the objectives of the Javits-Wagner-O'Day Act (41 U.S.C. 46-48c) in connection with a service proposed for deletion from the Procurement List.

End of Certification

The following service is proposed for deletion from the Procurement List:

Service

Service Type/Location: Janitorial/Custodial. Maritime Administration: Crossways Commerce Center, 1545 Crossways Boulevard, Chesapeake, VA.

NPA: Portco, Inc., Portsmouth, VA. Contracting Activity: GSA/PBS/R03 Richmond FO, Richmond, VA.

Barry S. Lineback,
Director, Business Operations.

[FR Doc. 2010-16790 Filed 7-8-10; 8:45 am]

BILLING CODE 6353-01-P